ADVISORY COUNCIL ON HISTORIC PRESERVATION

Notice of Meeting

AGENCY: Advisory Council on Historic Preservation.

ACTION: Notice of meeting.

SUMMARY: Notice is hereby given that the Advisory Council on Historic Preservation (ACHP) will meet on Friday, February 29, 2008. The meeting will be held in the Cash Room of the Department of the Treasury, 1500 Pennsylvania Ave., NW., Washington, DC at 9:45 a.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

The agenda for the meeting includes the following:

Call to Order—9:45 a.m.

I. Chairman's Welcome

II. Preservation Awards Presentation

III. Native American Activities

A. Native American Advisory Group

B. Native American Program Report

IV. National Academy of Public Administration's Review of the National Historic Preservation Program

A. Response of the National Park Service

B. Recommendations for ACHP Action

V. Preservation Initiatives Committee

A. Legislative Update

B. Planning for the Future of Preserve America

C. Heritage Tourism Activities

VI. Federal Agency Programs Committee

A. Alternate Procedures of Corps of Engineers' Appendix C

B. Section 106 Users Survey

C. Standard Treatments Update

D. Executive Order 13287 Section 3 Reporting

VII. Communications, Education, and Outreach Committee

A. 2008 Preserve America Presidential Award Nominations

B. Charting a Course for the Future of CEO

VIII. Implementation of ACHP Recommendations from the Preserve America Summit

A. Agency Progress

B. Recommendations Implemented by the ACHP

C. Preserve America/Save America's Treasures Authorizing Legislation

IX. Chairman's Report

A. ACHP Alumni Foundation

B. ACHP FY 2009 Budget Request

X. Executive Director's Report

XI. New Business

Adjourn

Note: The meetings of the ACHP are open to the public. The Treasury building is part of the White House complex, so a government-issued photo ID will be required for admission into the building. If you plan to attend, you must call Kiani Morris, 202-606-8512 or e-mail at kmorris@achp.gov with the following information: Name, Birth Date, and Social Security Number. Entry to the building is at the Lafayette Park entrance.

If you need special accommodations due to a disability, please contact the Advisory Council on Historic Preservation, 1100 Pennsylvania Avenue, NW., Room 803, Washington, DC, 202-606-8503, at least seven (7) days prior to the meeting. For further information: Additional information concerning the meeting is available from the Executive Director, Advisory Council on Historic Preservation, 1100 Pennsylvania Avenue, NW., #803, Washington, DC 20004.

Dated: February 15, 2008.
John Fowler,
Executive Director.

[FR Doc. 08-789 Filed 2-21-08; 8:45 am]

BILLING CODE 4310-K6-M